DEPARTMENT OF HEALTH AND HUMAN SERVICES

Food and Drug Administration

21 CFR Part 161

[Docket No. FDA-2016-P-0147]

RIN 0910-AI74

Fish and Shellfish; Canned Tuna Standard of Identity and Standard of Fill of Container

Correction

In rule document 2023-17916, appearing on pages 58157 through 58167 in the issue of Friday, August 25, 2023, make the following corrections:

§ 161.190 Canned tuna. [Corrected]

1. On page 58167, in the first column, on the third and second lines from the bottom, “1¼-inch” should read “1½-inch”.

2. On the same page, in the second column, on the eleventh and twelfth lines, “1¼-inch” should read “1½-inch”.

[FR Doc. C1-2023-17916 Filed 9-6-23; 8:45 am]

BILLING CODE 0099-10-D